DEPARTMENT OF AGRICULTURE

Farm Service Agency

Information Collection; Direct Loan Servicing-Regular

AGENCY: Farm Service Agency, USDA.

ACTION: Notice; request for comments.

SUMMARY: In accordance with the Paperwork Reduction Act of 1995, the Farm Service Agency (FSA) is seeking comments from all interested individuals and organizations on the extension with a revision of a currently approved information collection that supports Direct Loan Servicing-Regular programs. The information is used to determine borrower compliance with loan agreements, assist the borrower in achieving business goals, and regular servicing of the loan account such as graduation, subordination, partial release, and use of proceeds. The number of respondents and annual number of responses in this information collection has been adjusted to reflect the improved reporting ability for respondents and to correct some calculation errors in the previous information collection numbers. No additional forms, response actions, or time increases (other than travel time) were added as part of this revision.

DATES: We will consider comments that we receive by November 25, 2013.

ADDRESSES: We invite you to submit comments on this notice. In your comments, include date, volume, and page number, and the OMB control number and the title of the information collection of this issue of the Federal Register. You may submit comments by any of the following methods:

• Federal eRulemaking Portal: Go to: www.regulations.gov. Follow the online instructions for submitting comments.

• Mail: J. Lee Nault, Loan Specialist, USDA/FSA/FLP, STOP 0523, 1400 Independence Avenue, SW., Washington, DC 20250-0503.

You may also send comments to the Desk Officer for Agriculture, Office of Information and Regulatory Affairs, Office of Management and Budget, Washington, DC 20503. Copies of the information collection may be requested by contacting J. Lee Nault at the above address.

FOR FURTHER INFORMATION CONTACT: J. Lee Nault, Loan Specialist, Farm Service Agency, (202) 720-6834.

SUPPLEMENTARY INFORMATION:

Title: (7 CFR part 765) Farm Loan Programs—Direct Loan Servicing-Regular.

OMB Number: 0560-0236.

Expiration Date: 02/28/2014.

Type of Request: Extension with a revision.

Abstract: FSA's Farm Loan Programs provide loans to family farmers to purchase real estate and equipment, and finance agricultural production. Direct Loan Servicing—Regular, as specified in 7 CFR part 765, provides the requirements related to routine servicing actions associated with direct loans. FSA is required to actively supervise its borrowers and provide credit counseling, management advice and financial guidance. Additionally, FSA must document that credit is not available to the borrower from commercial credit sources in order to maintain eligibility for assistance. Information collections established in the regulation are necessary for FSA to monitor and account for loan security, including proceeds derived from the sale of security, and to process a borrower's request for subordination or partial release of security. Borrowers are required to provide financial information to determine graduation eligibility based on commercial lender standards provided to FSA.

The number of respondents and annual number of responses in this information collection has been adjusted to reflect the improved reporting ability for respondents and to correct some calculation errors in the previous information collection numbers. No additional forms, response actions, or time increases (other than travel time) were added as part of this revision.

Estimate of Average Time to respond: 19 minutes per response. The average travel time, which is included in the total annual burden, is estimated to be 1 hour per respondent.

Respondents: Individuals or households, businesses or other for profit farms

Estimated Annual Number of Respondents: 52,765.

Estimated Number of Reponses per Respondent: 1.98.

Total Annual Responses: 104,518.

Estimated Total Annual Burden Hours: 64,771. We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on September 17, 2013.
Juan M. Garica,
Administrator, Farm Service Agency.

[FR Doc. 2013-23227 Filed 9-23-13; 8:45 am]

BILLING CODE 3410-05-P